DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Information for Assessment of U.S. Domestic Steel Capacity Pursuant to President's Steel Initiative.

Agency Form Number: N/A.

OMB Number: None.

Type of Request: Emergency Submission.

Burden: 175 hours.

Number of Respondents: 35.

Avg. Hours Per Response: 5 hours.

Needs and Uses: The Administration is currently conducting multilateral negotiations on global overcapacity with steel producers as part of the President's Steel Initiative announced on June 5, 2001. During the first round of negotiations held at the Organization for Economic Co-operation and Development (OECD) in September 2001, there was consensus among the 39 participating governments that the global excess of inefficient steelmaking capacity is a central problem affecting the steel trade. The participants at the OECD meeting recognized the differences among governments regarding definitions of inefficient or excess capacity, and acknowledged that in market-oriented economies, decisions to reduce capacity will be decided by individual firms, not governments. Therefore, they proposed that the negotiations proceed with a “self assessment” in which each participating governments agreed to consult with individual steel producers in their own countries over the next two months and evaluate the long term economic viability of their steel facilities in an open global market, identify the response of their steel companies to changing competitive conditions in world steel markets in recent years, and consider what further actions their industry is likely to take. The results of these government/producer consultations would then be discussed at the next round of negotiations, currently scheduled to take place in December 2001. The Department must collect certain information from major U.S. steel producers to conduct the self assessment and evaluation required to support these negotiations.

Affected Public: Businesses or other for-profits.

Frequency: Once.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution, NW., Washington, DC 20230 or via internet at MClayton@doc.gov.

Written comments and recommendations for the proposed information collection should be sent to David Rostker, OMB Desk Officer, Room 10202, New Executive Office Building, Washington, DC 20503 within 5 days of the publication of this notice in the Federal Register.

Dated: October 26, 2001.
Madeleine Clayton,
Departmental Paperwork Clearance Officer, Office of the Chief Information Officer.

[FR Doc. 01-27407 Filed 10-31-01; 8:45 am]

BILLING CODE 3510-DS-P